ENVIRONMENTAL PROTECTION AGENCY

[FRL-9944-07-OW]

National Rivers and Streams Assessment 2008/2009 Final Report

AGENCY: Environmental Protection Agency (EPA).

ACTION: Notice of availability.

SUMMARY: This notice announces the availability of EPA's final report on the National Rivers and Streams Assessment (NRSA) 2008/2009. The NRSA describes the results of the nationwide probabilistic survey that was conducted in the summers of 2008 and 2009 by EPA and its state, tribal, and federal partners. The NRSA 2008/2009 report includes information on how the survey was implemented, what the findings are on a national and ecoregional scale, and future actions and challenges.

FOR FURTHER INFORMATION CONTACT: Richard Mitchell, Office of Wetlands, Oceans and Watersheds, Office of Water, Washington, DC. Phone: 202-566-0644; email: mitchell.richard@epa.gov.

SUPPLEMENTARY INFORMATION:

I. General Information

The National Rivers and Streams Assessment 2008-2009: A Collaborative Survey is the first report to use a statistically-valid random design to assess the condition of the nation's rivers and streams. It is one of a series of National Aquatic Resource Surveys (NARS), a national-scale monitoring program designed to produce statistically-valid assessments that answer critical questions about the condition of waters in the United States. The key goals of the NRSA report are to describe the ecological and recreational condition of the nation's river and stream resources, how those conditions are changing, and the key stressors affecting those waters. Using a statistical survey design, 1,924 sites were selected at random to represent the condition of the larger population of rivers and streams across the lower 48 states, from the largest “great rivers” to the smallest headwater streams.

The NRSA finds that 46% of the nation's river and stream miles do not support healthy biological communities when compared to least disturbed sites in similar ecological regions. Fair conditions are found in 25% of river and stream miles, while 28% are in good condition and support healthy aquatic communities. Of the stressors that were examined, phosphorus and nitrogen are the most widespread. Biological communities are at increased risk for poor condition when phosphorus and nitrogen levels are high. The report has undergone public, peer, state/tribal and EPA review.

A. How can I get copies of the NRSA 2008/2009 and other related information?

You may view and download the final report from EPA's Web site at http://www.epa.gov/national-aquatic-resource-surveys/nrsa.

Dated: March 11, 2016.
Joel Beauvais,
Deputy Assistant Administrator, Office of Water.

[FR Doc. 2016-06302 Filed 3-18-16; 8:45 am]

BILLING CODE 6560-50-P